DEPARTMENT OF HOUSING AND URBAN DEVELOPMENT

[Docket No. FR-4902-N-01]

Adjustments to Statutory Mortgage Limits for Sections 207 and 213 of the National Housing Act Multifamily Housing Programs

AGENCY: Office of the Assistant Secretary for Housing—Federal Housing Commissioner, HUD.

ACTION: Notice.

SUMMARY: The recently enacted FHA Multifamily Loan Limit Adjustment Act of 2003 made adjustments to certain maximum mortgage amount limits. This notice advises of HUD adjustment of these mortgage limits consistent with the new law.

EFFECTIVE DATE: January 1, 2004.

FOR FURTHER INFORMATION CONTACT: Michael McCullough, Director, Office of Multifamily Development, Department of Housing and Urban Development, 451 Seventh Street, SW., Washington, DC 20410-8000, telephone (202) 708-1142 (this is not a toll-free number). Hearing-or speech-impaired individuals may access this number through TTY by calling the toll-free Federal Information Relay Service at (800) 877-8339.

SUPPLEMENTARY INFORMATION: The FHA Downpayment Simplification Act of 2002 (Pub. L. 107-326, approved December 4, 2002) amended the National Housing Act (the Act) (12 U.S.C. 1701 et seq.) by adding a new section 206A (12 U.S.C. 1712a). Under section 206A, maximum mortgage amounts (collectively referred to as “dollar amounts”) shall be adjusted annually, commencing in 2004, for a number of programs under the Act. Accordingly, on November 1, 2003 (68 FR 65724), HUD published notice of the basic statutory mortgage limits for multifamily housing programs.

Subsequently, enactment of the FHA Multifamily Loan Limit Adjustment Act of 2003 (section 302 of Pub. L. 108-186, approved December 16, 2003) established “catch-up adjustments” to two programs under the Act. Under section 302(c), captioned “Catch-up Adjustments to Certain Maximum Mortgage Amount Limits,” the adjustments affect the following sections of the Act: (1) Section 207(c)(3)(A) (12 U.S.C. 1713(c)(3)(A)); and (2) section 213(b)(2)(A) (12 U.S.C. 1715e(b)(2)(A)).

The new dollar amounts in these sections have been adjusted by HUD according to the FHA Downpayment Simplification Act of 2002, using the Federal Reserve Board's adjustment of the $400 figure in the Home Ownership and Equity Protection Act of 1994 (HOEPA) (Pub. L. 103-325, approved September 23, 1994). The adjustment of the dollar amounts has been calculated using the percentage change in the Consumer Price Index for All Urban Consumers (CPI-U) as applied by the Federal Reserve Board for purposes of the above-described HOEPA adjustment.

The percentage change in the CPI-U is 2.22 percent and the effective date of the HOEPA adjustment is January 1, 2004. The dollar amounts have been adjusted correspondingly and have an effective date of January 1, 2004.

The adjusted dollar amounts for calendar year 2004 are as follows:

Basic Statutory Mortgage Limits for Calendar Year 2004

Multifamily Loan Program

• Section 213—Cooperatives

Bedrooms | Non-elevator | Elevator
0 | $42,121 | 44,849
1 | 48,565 | 50,813
2 | 58,572 | 61,787
3 | 74,971 | 79,932
4+ | 83,521 | 87,741

• Section 207 “ Manufactured Home Parks

Per Space $17,847

Dated: February 20, 2004.
John C. Weicher,
Assistant Secretary for Housing-Federal Housing Commissioner.

[FR Doc. 04-4481 Filed 2-27-04; 8:45 am]

BILLING CODE 4210-27-P